DEPARTMENT OF THE TREASURY

Office of Foreign Assets Control

31 CFR Part 542

Publication of Syrian Sanctions Regulations Web General License 22

AGENCY: Office of Foreign Assets Control, Treasury.

ACTION: Publication of web general license.

SUMMARY: The Department of the Treasury's Office of Foreign Assets Control (OFAC) is publishing one general license (GL) issued pursuant to the Syrian Sanctions Regulations: GL 22, which was previously made available on OFAC's website.

DATES: GL 22 was issued on May 12, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On May 12, 2022, OFAC issued GL 22 to authorize certain transactions otherwise prohibited by the Syrian Sanctions Regulations, 31 CFR part 542. The GL was made available on OFAC's website (www.treas.gov/ofac) when it was issued. The text of the GL is provided below.

OFFICE OF FOREIGN ASSETS CONTROL

Syrian Sanctions Regulations

31 CFR Part 542

GENERAL LICENSE NO. 22

Authorizing Activities in Certain Economic Sectors in Non-Regime Held Areas of Northeast and Northwest Syria

(a) Except as provided in paragraph (c) of this general license, transactions prohibited by § 542.206 or 542.207 of the Syrian Sanctions Regulations, 31 CFR part 542 (SySR), that are ordinarily incident and necessary to activities in the following economic sectors in the areas of northeast and northwest Syria described in the Annex to this general license are authorized:

(1) agriculture;

(2) information and telecommunications;

(3) power grid infrastructure;

(4) construction;

(5) finance;

(6) clean energy;

(7) transportation and warehousing;

(8) water and waste management;

(9) health services;

(10) education;

(11) manufacturing; and

(12) trade.

(b) Except as provided in paragraph (c) of this general license, the purchase of refined petroleum products of Syrian origin for use in Syria prohibited by § 542.209 of the SySR that is ordinarily incident and necessary to the activities described in paragraph (a) of this general license are authorized.

Note to paragraphs (a) and (b). The authorizations in paragraphs (a) and (b) of this general license include the processing or transfer of funds on behalf of third-country entities to or from Syria in support of the transactions authorized by paragraphs (a) and (b) of this general license. U.S. financial institutions and U.S. registered money transmitters may rely on the originator of a funds transfer with regard to compliance with paragraphs (a) or (b) of this general license, provided that the financial institution does not know or have reason to know that the funds transfer is not in compliance with paragraphs (a) or (b) of this general license.

(c) This general license does not authorize:

(1) Any transactions involving any person, including the Government of Syria, whose property or interests in property are blocked pursuant to the SySR or the Caesar Syria Civilian Protection Act of 2019; or

(2) The importation into the United States of petroleum or petroleum products of Syrian origin prohibited by § 542.208 of the SySR.

Note to General License 22. See § 542.510 of the SySR for a general license authorizing the exportation or reexportation of certain items and services to Syria.

Andrea M. Gacki,

Director, Office of Foreign Assets Control,

Dated: May 12, 2022.

Annex

The areas of northeast and northwest Syria in which activities are authorized by Syria General License 22, subject to conditions in paragraph (c) of this general license, including the exclusion of transactions involving the Government of Syria, are:

(a) Halab (Aleppo) Governorate

(1) Manbij District, excluding the following subdistricts:

(i) Khafsah subdistrict

(ii) Maskanah subdistrict

(2) Al Bab District, excluding the following subdistricts:

(i) Tadif subdistrict

(ii) Dayr Hafir subdistrict

(iii) Rasm Harmal al Imam subdistrict

(iv) Kuwayris Sharqi subdistrict

(3) Ayn Al Arab District

(4) I'zaz District, excluding the following subdistricts:

(i) Tall Rif'at subdistrict

(ii) Nubl subdistrict

(5) Jarabulus District

(b) Ar Raqqah Governorate

(1) Markaz ar Raqqah District, excluding the following subdistricts:

(i) Ma'dan subdistrict

(2) Tall Abyad District

(3) Ath Thawrah District, excluding the following subdistricts:

(i) Al Mansurah subdistrict

(c) Dayr az Zawr Governorate

(1) Markaz Dayr az Zawr District, excluding areas west of the Euphrates in the following subdistricts:

(i) Markaz Dayr as Zawr subdistrict

(ii) At Tibni subdistrict

(iii) Muhasan subdistrict

(iv) Khusham subdistrict

(2) Al Mayadin District, excluding areas west of the Euphrates in the following subdistricts:

(i) Markaz al Mayadin subdistrict

(ii) Asharah subdistrict

(3) Albu Kamal District, excluding areas west of the Euphrates in the following subdistricts:

(i) Markaz Albu Kamal subdistrict

(ii) Al Jala subdistrict

(d) Al Hasakah Governorate

(1) Markaz al Hasakah District

(2) Al Malikiyah District

(3) Al Qamishli District

(4) Ra's al Ayn District

Andrea M. Gacki,
Director, Office of Foreign Assets Control.

[FR Doc. 2023-08744 Filed 4-25-23; 8:45 am]

BILLING CODE 4810-AL-P